NUCLEAR REGULATORY COMMISSION

[Docket No. 030-34325]

Notice of Availability of Environmental Assessment and Finding of No Significant Impact for Amendment of a Materials Permit in Accordance With Byproduct Materials License No. 03-23853-01VA, for Unrestricted Release of a Department of Veterans Affairs' Facility in Seattle, WA

AGENCY: Nuclear Regulatory Commission.

ACTION: Issuance of Environmental Assessment and Finding of No Significant Impact for License Amendment.

FOR FURTHER INFORMATION CONTACT: William Snell, Senior Health Physicist, Decommissioning Branch, Division of Nuclear Materials Safety, Region III, U.S. Nuclear Regulatory Commission, 2443 Warrenville Road, Lisle, Illinois 60532; telephone: (630) 829-9871; fax number: (630) 515-1259; or by e-mail at wgs@nrc.gov.

SUPPLEMENTARY INFORMATION:

I. Introduction

The U.S. Nuclear Regulatory Commission (NRC) is proposing to amend a materials permit held under Byproduct Materials License No. 03-23853-01VA. The permit is held by the Department of Veterans Affairs (the Licensee), for its Puget Sound VA Health Care System facilities, located at 1660 South Columbian Way, Seattle, Washington (the Facility). Issuance of the amendment would authorize release of Waste Area 3 (described below) for unrestricted use. The Licensee requested this action in a letter dated July 5, 2007. The NRC has prepared an Environmental Assessment (EA) in support of this proposed action in accordance with the requirements of Title 10, Code of Federal Regulations (CFR), Part 51 (10 CFR Part 51). Based on the EA, the NRC has concluded that a Finding of No Significant Impact (FONSI) is appropriate with respect to the proposed action. The amendment will be issued to the Licensee following the publication of this FONSI and EA in the Federal Register.

II. Environmental Assessment

Identification of Proposed Action

The proposed action would approve the Licensee's July 5, 2007, materials permit amendment request, resulting in release of Waste Area 3 for unrestricted use. License No. 03-23853-01VA was issued on March 17, 2003, pursuant to 10 CFR Parts 30 and 35, and has been amended periodically since that time. This license authorizes the Licensee to use byproduct materials at several Licensee facilities around the country, as authorized on a site-specific basis by permits issued by the Licensee's National Radiation Safety Committee. Under the license, the permits authorize the use of by-product materials for various medical and veterinary purposes, and for use in portable gauges.

The Facility is situated on a 44 acre site comprised of 20 buildings and five parking areas, and is located in a metropolitan area of Seattle, Washington which is surrounded by residential neighborhoods and commercial enterprises. Within the Facility, Waste Area 3 was constructed in 1988 as a temporary storage site for decay-in-storage radioactive waste, and was a single floor, sheet-metal enclosed structure bolted onto an 8 × 14 × 8 foot chain-link fence. The floor consisted of ¾ inch thick asphalt. The structure had no electrical, ventilation, heating system, drainage system, water, sewer, or septic. The Licensee ceased using licensed materials in Waste Area 3 on November 15, 2006, and initiated surveys and decontamination of the building. Based on the Licensee's historical knowledge of the site and the conditions within Waste Area 3, the Licensee determined that only routine decontamination activities, in accordance with their NRC-approved, operating radiation safety procedures, were required. The Licensee was not required to submit a decommissioning plan to the NRC because worker cleanup activities and procedures are consistent with those approved for routine operations. The Licensee conducted final status surveys of Waste Area 3 on November 17, 2006. Additional surveys were conducted on April 10, 2007, of the waste barrels that had been removed from Waste Storage Area 3 in November 2006. The results of these surveys along with other supporting information were provided to the NRC to demonstrate that the criteria in Subpart E of 10 CFR Part 20 for unrestricted release have been met.

Need for the Proposed Action

The Licensee has ceased conducting licensed activities in Waste Area 3, and seeks the unrestricted use of Waste Area 3.

Environmental Impacts of the Proposed Action

The historical review of licensed activities conducted in Waste Area 3 shows that such activities involved use of the following radionuclides with half-lives greater than 120 days: hydrogen-3 (H-3) and carbon-14 (C-14). Prior to performing the final status survey, the Licensee conducted decontamination activities, as necessary, in the areas of Waste Area 3 affected by these radionuclides.

The Licensee completed final status surveys on Waste Area 3 on November 17, 2006. The surveys covered all areas of Waste Area 3. The final status survey report was attached to the Licensee's amendment request dated July 5, 2007. The Licensee elected to demonstrate compliance with the radiological criteria for unrestricted release as specified in 10 CFR 20.1402 using release criteria for building surfaces based on NUREG-1556, Volume 7, “Program-Specific Guidance about Academic, Research and Development, and Other Licenses of Limited Scope Including Gas Chromatographs and X-Ray Fluorescence Analyzers—Final Report,” Appendix Q, “Radiation Safety Survey Topics.” These release criteria are the same as the radionuclide-specific dose-based release criteria, described in NUREG-1757, “Consolidated NMSS Decommissioning Guidance,” Volume 2. These values provide acceptable levels of surface contamination to demonstrate compliance with the NRC requirements in Subpart E of 10 CFR Part 20 for unrestricted release. The Licensee's final status survey results were below these values and are in compliance with the As Low As Reasonably Achievable (ALARA) requirement of 10 CFR 20.1402. The NRC thus finds that the Licensee's final status survey results are acceptable.

Based on its review, the staff has determined that the affected environment and any environmental impacts associated with the proposed action are bounded by the impacts evaluated by the “Generic Environmental Impact Statement in Support of Rulemaking on Radiological Criteria for License Termination of NRC-Licensed Nuclear Facilities” (NUREG-1496) Volumes 1-3 (ML042310492, ML042320379, and ML042330385). The staff finds there were no significant environmental impacts from the use of radioactive material in Waste Area 3. The NRC staff reviewed available docket file records and the final status survey report to identify any non-radiological hazards that may have impacted the environment surrounding Waste Area 3. No such hazards or impacts to the environment were identified. The NRC has identified no other radiological or non-radiological activities in the area that could result in cumulative environmental impacts.

The NRC staff finds that the proposed release of Waste Area 3 for unrestricted use is in compliance with 10 CFR Part 20. Based on its review, the staff considered the impact of the residual radioactivity from Waste Area 3 and concluded that the proposed action will not have a significant effect on the quality of the human environment.

Environmental Impacts of the Alternatives to the Proposed Action

Due to the largely administrative nature of the proposed action, its environmental impacts are small. Therefore, the only alternative the staff considered is the no-action alternative, under which the staff would leave things as they are by simply denying the amendment request. This no-action alternative is not feasible because it conflicts with 10 CFR 30.36(d), requiring that decommissioning of byproduct material facilities be completed and approved by the NRC after licensed activities cease. The NRC's analysis of the Licensee's final status survey data confirmed that Waste Area 3 meets the requirements of 10 CFR 20.1402 for unrestricted release. Additionally, denying the amendment request would result in no change in current environmental impacts. The environmental impacts of the proposed action and the no-action alternative are therefore similar, and the no-action alternative is accordingly not further considered.

Conclusion

The NRC staff has concluded that the proposed action is consistent with the NRC's unrestricted release criteria specified in 10 CFR 20.1402. Because the proposed action will not significantly impact the quality of the human environment, the NRC staff concludes that the proposed action is the preferred alternative.

Agencies and Persons Consulted

NRC provided a draft of this Environmental Assessment to the State of Washington Department of Health, Office of Radiation Protection, for review on January 2, 2008. On January 8, 2008, the Office of Radiation Protection responded by e-mail. The State agreed with the conclusions of the EA.

The NRC staff has determined that the proposed action is of a procedural nature, and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license amendment and supporting documentation, are available electronically at the NRC's Electronic Reading Room at http://www.nrc.gov/reading-rm/adams.html. From this site, you can access the NRC's Agencywide Document Access and Management System (ADAMS), which provides text and image files of NRC's public documents. The documents related to this action are listed below, along with their ADAMS accession numbers.

1. E. Lynn McGuire, Department of Veterans Affairs, letter to Cassandra Frazier, U.S. Nuclear Regulatory Commission, Region III, dated July 5, 2007 (ADAMS Accession No. ML071900464);

2. Thomas Huston, Department of Veterans Affairs, e-mail to William Snell, U.S. Nuclear Regulatory Commission, Region III, dated December 12, 2007 (ADAMS Accession No. ML073610490); Title 10 Code of Federal Regulations, Part 20, Subpart E, “Radiological Criteria for License Termination;”

3. Title 10 Code of Federal Regulations, Part 51, “Environmental Protection Regulations for Domestic Licensing and Related Regulatory Functions;”

4. NUREG-1496, “Generic Environmental Impact Statement in Support of Rulemaking on Radiological Criteria for License Termination of NRC-Licensed Nuclear Facilities;”

5. NUREG-1757, “Consolidated NMSS Decommissioning Guidance,”

6. NUREG-1556, Volume 7, “Program-Specific Guidance About Academic, Research and Development, and Other Licenses of Limited Scope Including Gas Chromatographs and X-Ray Fluorescence Analyzers—Final Report,” Appendix Q, “Radiation Safety Survey Topics.”

If you do not have access to ADAMS, or if there are problems in accessing the documents located in ADAMS, contact the NRC Public Document Room (PDR) Reference staff at 1-800-397-4209, 301-415-4737, or by e-mail to pdr@nrc.gov. These documents may also be viewed electronically on the public computers located at the NRC's PDR, O 1 F21, One White Flint North, 11555 Rockville Pike, Rockville, MD 20852. The PDR reproduction contractor will copy documents for a fee.

Dated at Lisle, Illinois, this 4th day of February 2008.
For the Nuclear Regulatory Commission.
Patrick L. Louden,
Chief, Decommissioning Branch, Division of Nuclear Materials Safety, Region III.

[FR Doc. E8-2774 Filed 2-13-08; 8:45 am]

BILLING CODE 7590-01-P